DEPARTMENT OF COMMERCE

National Oceanic and Atmospheric Administration

RIN 0648-XA007

New England Fishery Management Council; Public Meeting

AGENCY: National Marine Fisheries Service (NMFS), National Oceanic and Atmospheric Administration (NOAA), Commerce.

ACTION: Notice of public meeting.

SUMMARY: The New England Fishery Management Council (Council) will hold a three-day meeting on Tuesday through Thursday, November 16-18, 2010 to consider actions affecting New England fisheries in the exclusive economic zone (EEZ).

DATES: The meeting will be held on Tuesday, November 16, Wednesday, November 17 and Thursday, November 18, 2010 starting at 8:30 a.m. each day.

ADDRESSES: The meeting will be held at the Ocean Edge Resort, 2907 Main Street, Brewster, MA 02631-1946; telephone: (508) 896-9000; fax: (508) 896-9123. Requests for special accommodations should be addressed to the New England Fishery Management Council, 50 Water Street, Mill 2, Newburyport, MA 01950; telephone: (978) 465-0492.

FOR FURTHER INFORMATION CONTACT: Paul J. Howard, Executive Director, New England Fishery Management Council; telephone: (978) 465-0492.

SUPPLEMENTARY INFORMATION:

Tuesday, November 16, 2010

Following introductions and any announcements, the Council will hold a closed session to allow Council members to comment on 2011-13 nominees to its Scientific and Statistical Committee. Following this agenda item, the Council will receive brief reports from the Council Chairman and Executive Director, the NOAA Fisheries Regional Administrator, Northeast Region, Northeast Fisheries Science Center and Mid-Atlantic Fishery Management Council liaisons, NOAA General Counsel, representatives of the U.S. Coast Guard and the Atlantic States Marine Fisheries Commission, as well as NOAA Enforcement and the Chairman of the Research Steering Committee. There will be a review of any experimental fishery permit applications that have been received since the last Council meeting, and an open public comment period. This time is scheduled for any interested party who may wish to provide brief comments on issues relevant to Council business but not otherwise listed on the meeting agenda. Prior to a break the Council will discuss and approve management priorities for 2011-12. The afternoon session will begin with a report from the Scientific and Statistical Committee (SSC). It will include an overview of the committee=s 2011 schedule, approval of an acceptable biological catch (ABC) recommendation for Gulf of Maine winter flounder as well as the NEFMC=s five-year Council research recommendations, a summary of the committee=s ongoing discussion of ABC control rules, and a comprehensive overview of the SSC=s white paper on Ecosystem-based Fisheries Management. NMFS Deputy Assistant Administrator for Regulatory Programs Sam Rauch will discuss coastal and marine spatial planning with the Council and the day will end with an Enforcement Committee report concerning recommendations for standardized fixed gear marking in the EEZ. The Council is not likely to take further action on these proposals until it consults with partner fishery management organizations and conducts a more public process to solicit further review and comment.

Wednesday, November 17, 2010

Throughout most of the day, the Council will discuss and take final action on Framework Adjustment 22 to the Atlantic Sea Scallop Fishery Management Plan. The primary purpose of the action is to set fishery specifications for the 2011-12 fishing years. Also included are measures to minimize the risk sea scallop gear/incidental encounters with sea turtles. Additionally, the Council will review and finalize scallop research recommendations that will apply to the fishery management plan's research set-aside program and approve measures that will affect the general category scallop fishery. During this report, the Council will discuss the yellowtail flounder sub annual catch limit that will be allocated to the scallop fleet through Framework Adjustment 45 to the Northeast Multispecies FMP. Before adjournment for the day, Council members will consider a change to its skate management measures based on a re-analysis of skate discards provided by the Skate Plan Development Team.

Thursday, November 18, 2010

The final day of the meeting will begin with initial action on Framework Adjustment 7 to the Monkfish Fishery Management Plan. Management measures will address revisions to the biomass reference points, as well as a revised ABC and a Northern Management Area annual catch target (ACT). In view of the new ACT, a range of new management alternatives also will be considered. Finally, the monkfish discussion will include a summary of the development of Amendment 6 to the FMP, which will center on a catch share program for the monkfish fishery. The remainder of the day will be spent on multipsecies groundfish management-related issues. This will involve final action on Framework Adjustment 45 to the Northeast Multispecies Fishery Management Plan (FMP). The major measures under consideration are: Possible adjustments to the yellowtail flounder sub annual catch limit as a result of action taken in Framework 22 to the Scallop FMP; modifications to the Georges Bank yellowtail flounder rebuilding strategy and accordingly, the ABC; alternatives for revised status determination criteria and adjustments to the ABCs for pollock and Gulf of Maine winter flounder; total allowable catches for stocks harvested in the U.S./Canada area for 2011; changes to the at-sea and dockside monitoring provisions in the FMP; elimination of the Great South Channel yellowtail flounder spawning closures for the general category scallop vessels; protection for spawning cod in an area off the New Hampshire coast; and authorization for additional sectors. The Council also will discuss the issue of state-operated permit banks.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: October 25, 2010.
Tracey L. Thompson,
Acting Director, Office of Sustainable Fisheries, National Marine Fisheries Service.

[FR Doc. 2010-27247 Filed 10-27-10; 8:45 am]

BILLING CODE 3510-22-P